FEDERAL COMMUNICATIONS COMMISSION

47 CFR Part 73

[DA 03-2092; MB Docket No. 03-147, RM-10722; MB Docket No. 03-148, RM-10724 MB Docket No. 03-149, RM-10725]

Radio Broadcasting Services; Barstow, CA; Grapeland, TX; Newcastle, TX

AGENCY: Federal Communications Commission.

ACTION: Proposed rule.

SUMMARY: This document proposes three allotments to Barstow, CA; Grapeland, TX; and Newcastle, TX. The Audio Division requests comments on a petition filed by Linda A. Davidson proposing the allotment of Channel 267A at Barstow, California, as the community's third local FM transmission service. Channel 267A can be allotted to Barstow in compliance with the Commission's minimum distance separation requirements at city reference coordinates. The coordinates for Channel 267A are 34-53-55 North Latitude and 117-01-19 West Longitude. Since Barstow is located within 320 kilometers (199 miles) of the U.S.-Mexican border, concurrence of the Mexican government has been requested. See Supplementary Information, infra.

DATES: Comments must be filed on or before August 22, 2003, and reply comments on or before September 8, 2003.

ADDRESSES: Federal Communications Commission, Washington, DC 20554. In addition to filing comments with the FCC, interested parties should serve the petitioner, his counsel, or consultant, as follows: Linda A. Davidson, 2134 Oak Street, Unit C, Santa Monica, California 90405, Charles Crawford, 4553 Bordeaux Avenue, Dallas, Texas 75205, and Robert Fabian, 4 Hickory Crossing Lane, Argyle, Texas 76226.

SUPPLEMENTARY INFORMATION: This is a synopsis of the Commission's Notice of Proposed Rule Making, MB Docket No. 03-147; MB Docket No. 03-148; and MB Docket No. 03-149; adopted June 30, 2003, and released July 1, 2003. The full text of this Commission decision is available for inspection and copying during normal business hours in the FCC Reference Information Center (Room CY-A257), 445 12th Street, SW., Washington, DC. The complete text of this decision may also be purchased from the Commission's copy contractor, Quatex International, Portals II, 445 12th Street, SW., Room CY-B402, Washington, DC 20554.

The Audio Division requests comments on a petition filed by Charles Crawford proposing the allotment of Channel 263A at Newcasle, Texas, as the community's first local aural transmission service. Channel 263A can be allotted to Newcastle in compliance with the Commission's minimum distance separation requirements with a site restriction of 3.6 kilometers (2.2 miles) northeast to avoid a short-spacing to the licensed site of Station KHYS(FM), Channel 264C1 at Abilene, Texas. The coordinates for Channel 263A at Newcastle are 33-13-10 North Latitude and 98-43-01 West Longitude.

The Audio Division requests comments on a petition filed by Robert Fabian proposing the allotment of Channel 280A at Grapeland, Texas, as the community's second local FM transmission service. Channel 280A can be allotted to Grapeland in compliance with the Commission's minimum distance separation requirements with a site restriction of 11.4 kilometers (7.0 miles) northeast to avoid short-spacings to the licensed sites of Station KJCS(FM), Channel 277C2, Nacogdoches, Texas, Station KXCS(FM), Channel 280C2, Cameron, Texas, and Station KKUS(FM), Channel 281C2, Tyler, Texas. The coordinates for Channel 280A at Grapeland, Texas are 31-32-45 North Latitude and 95-22-42 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under California, is amended by adding Channel 267A at Barstow.

3. Section 73.202(b), the Table of FM Allotments under Texas, is amended by adding Channel 280A at Grapeland; and by adding Newcastle, Channel 263A.

Federal Communications Commission.
John A. Karousos,
Assistant Chief, Audio Divison, Media Bureau.

[FR Doc. 03-18228 Filed 7-17-03; 8:45 am]

BILLING CODE 6712-01-P